DEPARTMENT OF THE INTERIOR

National Park Service

[NPS-WASO-NAGPRA-NPS0036458; PPWOCRADN0-PCU00RP14.R50000]

Notice of Inventory Completion: Klamath County Museum, Klamath Falls, OR

AGENCY: National Park Service, Interior.

ACTION: Notice.

SUMMARY: In accordance with the Native American Graves Protection and Repatriation Act (NAGPRA), the Klamath County Museum has completed an inventory of human remains and has determined that there is a cultural affiliation between the human remains and Indian Tribes or Native Hawaiian organizations in this notice. The human remains were removed from Siskiyou County, CA, and Klamath County, OR.

DATES: Repatriation of the human remains in this notice may occur on or after September 27, 2023.

ADDRESSES: Todd Kepple, Klamath County Museum, 1451 Main Street, Klamath Falls, OR 97601, telephone (541) 882-1000, email museum@klamathcounty.org.

SUPPLEMENTARY INFORMATION: This notice is published as part of the National Park Service's administrative responsibilities under NAGPRA. The determinations in this notice are the sole responsibility of Klamath County Museum. The National Park Service is not responsible for the determinations in this notice. Additional information on the determinations in this notice, including the results of consultation, can be found in the inventory or related records held by Klamath County Museum.

Description

All the human remains described below were collected by the Frank and Doris Payne family and became part of their collection of artifacts from the Upper Klamath Basin region. The Payne Collection was acquired by a group of local businessmen around 1944, when the Paynes moved away from Klamath Falls, and in 1965, it was transferred to the Klamath County Museum. No associated funerary objects are present.

In April of 1938, human remains representing, at minimum, two individuals were removed from Lower Klamath Lake in Siskiyou County, CA. These fragmentary human remains (designated SK-13 and SK-22) belong to two individuals of unknown age and sex. The human remains of one of them (SK-13) are in a mineralized state, which suggests they are several thousand years old.

In March of 1941, human remains representing, at minimum, one individual were removed from Tule Lake in Siskiyou County, CA. These fragmentary human remains (designated SK-28B) belong to an individual of unknown age and sex.

Sometime in 1941, human remains representing, at minimum, one individual were removed from Lower Klamath Lake in Siskiyou County, CA. These fragmentary human remains (designated SK-30) belong to an individual of unknown age and sex.

Sometime prior to 1944, human remains representing, at minimum, one individual were removed from an unknown location. These fragmentary human remains belong to an individual of unknown age and sex.

Sometime prior to 1944, human remains representing, at minimum, one individual were removed from Lower Klamath Lake in Siskiyou County, CA. These fragmentary human remains belong to an individual of unknown age and sex.

Sometime prior to 1944, human remains representing, at minimum, one individual were removed from an unknown location. These fragmentary human remains (designated BA-76) belong to an individual of unknown age and sex.

Sometime prior to 1944, human remains representing, at minimum, one individual were removed from an unknown location. These human remains (designated 220g-1) consist of a mandible belonging to a mature individual of unknown age and sex.

Sometime prior to 1944, human remains representing, at minimum, one individual were removed from an unknown location. These human remains (designated 413-7 (1341)) consist of a pear-shaped skull fragment belonging to an individual of unknown age and sex.

Cultural Affiliation

The human remains in this notice are connected to one or more identifiable earlier groups, tribes, peoples, or cultures. There is a relationship of shared group identity between the identifiable earlier groups, tribes, peoples, or cultures and one or more Indian Tribes or Native Hawaiian organizations. The following type of information was used to reasonably trace the relationship: historical.

Determinations

Pursuant to NAGPRA and its implementing regulations, and after consultation with the appropriate Indian Tribes and Native Hawaiian organizations, the Klamath County Museum has determined that:

• The human remains described in this notice represent the physical remains of nine individuals of Native American ancestry.

• There is a relationship of shared group identity that can be reasonably traced between the human remains described in this notice and the Klamath Tribes.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after September 27, 2023. If competing requests for repatriation are received, the Klamath County Museum must determine the most appropriate requestor prior to repatriation. Requests for joint repatriation of the human remains are considered a single request and not competing requests. The Klamath County Museum is responsible for sending a copy of this notice to the Indian Tribe identified in this notice.

Authority: Native American Graves Protection and Repatriation Act, 25 U.S.C. 3003, and the implementing regulations, 43 CFR 10.9, 10.10, and 10.14.

Dated: August 18, 2023.
Melanie O'Brien,
Manager, National NAGPRA Program.

[FR Doc. 2023-18495 Filed 8-25-23; 8:45 am]

BILLING CODE 4312-52-P